NATIONAL SCIENCE FOUNDATION

Advisory Committee for Geosciences; Notice of Meeting

In accordance with the Federal Advisory Committee Act (Pub. L. 92-463, as amended), the National Science Foundation (NSF) announces the following meeting:

Name and Committee Code: Advisory Committee for Geosciences (1755).

Date and Time: October 17, 2018, 8:30 a.m.-5:00 p.m. EDT; October 18, 2018, 8:30 a.m.-2:00 p.m. EDT.

Place: National Science Foundation, 2415 Eisenhower Avenue, Room 2030, Alexandria, Virginia 22314.

Type of Meeting: Open.

Contact Person: Melissa Lane, National Science Foundation, Room C 8000, 2415 Eisenhower Avenue, Virginia 22314; Phone 703-292-8500.

Minutes: May be obtained from the contact person listed above.

Purpose of Meeting: To provide advice, recommendations, and oversight on support for geoscience research and education including atmospheric, geo-space, earth, ocean and polar sciences.

Agenda

October 17, 2018

• Directorate and NSF activities and plans

• Budget Updates

• Committee Discussion on Follow-On Report to Dynamic Earth

• COV Reports

October 18, 2018

• Division Meetings

• Meeting with the NSF Director and COO

• Summary of AC OPP Spring Meeting and Upcoming Fall Meeting

• Action Items/Planning for Spring 2019 Meeting

Dated: September 11, 2018.
Crystal Robinson,
Committee Management Officer.

[FR Doc. 2018-19990 Filed 9-13-18; 8:45 am]

BILLING CODE 7555-01-P